NUCLEAR REGULATORY COMMISSION

[Docket No. 50-312]

Sacramento Municipal Utility District (SMUD), Rancho Seco Nuclear Generating Plant; Notice of Public Meeting

The NRC will conduct a public meeting in the Chabolla Community Center, 630 Chabolla Avenue, Galt, California, on June 20, 2000, to discuss SMUD plans to commence dismantlement and decontamination activities at the Rancho Seco Nuclear Generating Station, Herald, California. The meeting will begin at 7:00 p.m., with the doors opening at 6:30 p.m. The meeting will be chaired by Mr. Don Notolli, Supervisor, County Supervisory District 5, County of Sacramento, California, and will include short presentations by the NRC staff on the decommissioning process and NRC inspection program and by SMUD on its planned decommissioning activities. There will be an opportunity for members of the public to make comments and question the NRC staff and SMUD representatives.

On November 4, 1999, SMUD provided Amendment 2 to its Post-Shutdown Decommissioning Activities Report (PSDAR) to the NRC staff. This revision describes, in part, the licensee's plans to forego its initial option of hardened—SAFSTOR (i.e., long-term safe storage) for the Rancho Seco facility to implement an accelerated schedule of dismantlement and decontamination that will result in license termination by 2008. This licensee decision was made, in part, on its success in the incremental decontamination and dismantlement of the facility as described in Amendment 1 to its PSDAR dated January 29, 1997.

The NRC staff believes that the licensee's decision to change from hardened-SAFSTOR to full-plant decontamination and dismantlement is a significant change to the activities and schedules identified in the original PSDAR submitted on March 20, 1997. As such, the NRC plans to inform the public of the licensee's new decommissioning schedule by conducting a public meeting at the Chabolla Community Center which is in the vicinity of the Rancho Seco facility. This meeting will also provide a forum for the public to gather information and ask questions or make comments.

For more information, contact Paul W. Harris, Project Directorate IV & Decommissioning, Office of Nuclear Reactor Regulation, U.S. Nuclear Regulatory Commission, Washington, DC 20555-0001; telephone 301-415-1169 or email at PWH1@NRC.gov.

The PSDAR is available for public inspection at the Commission's Public Document Room located at the Gelman Building, 2120 L Street, NW, Washington, DC, and is accessible electronically from the ADAMS Public Library (Amendment 2 Accession No. ML993160051) component on the NRC Web site, http://www.nrc.gov (the Electronic Reading Room).

Dated at Rockville, Maryland, this 26th day of May 2000.
For the Nuclear Regulatory Commission.
Paul W. Harris,
Project Manager, Decommissioning Section, Project Directorate IV & Decommissioning, Division of Licensing Project Management, Office of Nuclear Reactor Regulation.

[FR Doc. 00-13876 Filed 6-1-00; 8:45 am]

BILLING CODE 7590-01-P